DEPARTMENT OF COMMERCE

International Trade Administration

[C-570-971]

Multilayered Wood Flooring From the People's Republic of China: Rescission of Countervailing Duty Administrative Review; 2023

AGENCY: Enforcement and Compliance, International Trade Administration, Department of Commerce.

SUMMARY: The U.S. Department of Commerce (Commerce) is rescinding the administrative review of the countervailing duty order on multilayered wood flooring (wood flooring) from the People's Republic of China (China) for the period of review January 1, 2023, through December 31, 2023.

DATES: Applicable May 6, 2025.

FOR FURTHER INFORMATION CONTACT: Jonathan Schueler or Laurel Smalley, AD/CVD Operations, Office VIII, Enforcement and Compliance, International Trade Administration, U.S. Department of Commerce, 1401 Constitution Avenue NW, Washington, DC 20230; telephone: (202) 482-9175 or (202) 482-3456, respectively.

SUPPLEMENTARY INFORMATION:

Background

On December 8, 2011, Commerce issued a countervailing duty order on wood flooring from China.¹ On December 3, 2024, Commerce published in the Federal Register a notice of opportunity to request an administrative review of the countervailing duty order on multilayered wood flooring from the People's Republic of China for the period of review January 1, 2023, through December 31, 2023.² We received timely requests for an administrative review from Riverside Plywood Corporation, including its cross-owned affiliates Baroque Timber Industries (Zhongshan) Co., Ltd.; Suzhou Times Flooring Co., Ltd.; and Zhongshan Lianjia Flooring Co., Ltd., (collectively, Riverside Plywood) ³ and seven other Chinese producers and/or exporters of multilayered wood flooring.⁴ In accordance with 19 CFR 351.221(c)(1)(i), we initiated an administrative review with respect to these eight companies on January 27, 2025, in accordance with section 751(a) of the Tariff Act of 1930, as amended (the Act).⁵ For the reasons explained below, we are rescinding this administrative review with respect to all eight companies.

¹ See Multilayered Wood Flooring from the People's Republic of China: Countervailing Duty Order, 76 FR 76693 (December 8, 2011); and Multilayered Wood Flooring from the People's Republic of China: Amended Antidumping and Countervailing Duty Orders, 77 FR 5484 (February 3, 2012), wherein the scope of the order was modified (collectively, Order).

² See Antidumping or Countervailing Duty Order, Finding, or Suspended Investigation; Opportunity to Request Administrative Review, 89 FR 95737 (December 3, 2024).

³ See Riverside Plywood's Letter, “Request for Administrative Review,” dated December 31, 2024.

⁴ See Zhejiang Longsen Lumbering Co., Ltd. and Hunchun Xingjia wooden Flooring Inc's Letter, “Request for Administrative Review,” dated December 28, 2024; see also Jiashan On-Line Lumber Co., Ltd. et al.'s, “Request for Administrative Review,” dated December 30, 2024.

⁵ See Initiation of Antidumping and Countervailing Duty Administrative Reviews, 90 FR 8187 (January 27, 2025) (Initiation Notice).

Rescission of Administrative Review

Pursuant to 19 CFR 351.213(d)(1), Commerce will rescind an administrative review, in whole or in part, if the party that requested a review withdraws its request within 90 days of the date of publication of the notice of initiation. Riverside Plywood withdrew its request for an administrative review by the established deadline.⁶ No other party requested an administrative review of Riverside Plywood or its cross-owned affiliates. As a result, Commerce is rescinding this review with respect to Riverside Plywood, including its cross-owned affiliates, in accordance with 19 CFR 351.213(d)(1).

⁶ See Riverside Plywood's Letter, “Withdrawal of Request for an Administrative Review,” dated April 9, 2025.

On February 11, 2025, Commerce notified interested parties that, in the absence of suspended entries during the POR, we intended to rescind this administrative review with respect to the following seven producers and/or exporters pursuant to 19 CFR 351.213(d)(3): (1) Dongtai Fuan Universal Dynamics, LLC; (2) HaiLin LinJing Wooden Products Co., Ltd.; (3) Hunchun Xingjia Wooden Flooring Inc.; (4) Jiashan On-Line Lumber Co., Ltd.; (5) Suzhou Dongda Wood Co., Ltd.; (6) Zhejiang Longsen Lumbering Co., Ltd.; and (7) Zhejiang Shiyou Timber Co., Ltd.⁷ No party commented on our Intent to Rescind Memorandum. Therefore, we find that there are no reviewable entries of subject merchandise for these seven companies based on our review of the U.S. Customs and Border Protection (CBP) data on the record.

⁷ See Memorandum, “Notice of Intent to Rescind Review, In Part,” dated February 11, 2025 (Intent to Rescind Memorandum).

Pursuant to 19 CFR 351.213(d)(3), it is Commerce's practice to rescind an administrative review of a countervailing duty order when Commerce concludes that there were no reviewable entries of subject merchandise during the POR for an exporter or producer.⁸ Normally, upon completion of an administrative review, the suspended entries are liquidated at the countervailing duty assessment rate for the review period.⁹ Therefore, for an administrative review to be conducted, there must be a reviewable, suspended entry that Commerce can instruct CBP to liquidate at the calculated countervailing duty assessment rate for the review period.¹⁰ As noted above, there were no entries of subject merchandise during the POR from any of the seven companies remaining under review. Accordingly, in the absence of reviewable, suspended entries of subject merchandise during the POR, and because the sole remaining respondent timely withdrew its request for review, we are rescinding this administrative review, in its entirety, in accordance with 19 CFR 351.213(d)(1) and (3).

⁸ See, e.g., Certain Carbon and Alloy Steel Cut-to-Length Plate from the Federal Republic of Germany: Rescission of Antidumping Administrative Review; 2020-2021, 88 FR 4154 (January 24, 2023).

⁹ See 19 CFR 351.212(b)(2).

¹⁰ See 19 CFR 351.213(d)(3).

Cash Deposit Requirements

As Commerce has proceeded to a rescission of this administrative review, no cash deposit rates will change. Accordingly, the current cash deposit requirements shall remain in effect until further notice.

Assessment

Commerce will instruct U.S. Customs and Border Protection (CBP) to assess countervailing duties on all appropriate entries at a rate equal to the cash deposit of estimated countervailing duties required at the time of entry, or withdrawal from warehouse, for consumption, during the period January 1, 2023, through December 31, 2023, in accordance with 19 CFR 351.212(c)(1)(i). Commerce intends to issue assessment instructions to CBP no earlier than 35 days after publication of this notice in the Federal Register.

Notification Regarding Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a violation which is subject to sanction.

Notification to Interested Parties

This notice is issued and published in accordance with sections 751(a)(1) and 777(i)(l) of the Act, and 19 CFR 351.213(d)(4).

Dated: April 30, 2025.
Scot Fullerton,
Acting Deputy Assistant Secretary for Antidumping and Countervailing Duty Operations.

[FR Doc. 2025-07887 Filed 5-5-25; 8:45 am]

BILLING CODE 3510-DS-P